DEPARTMENT OF DEFENSE

Department of the Army

Army Science Board; Notice of Open Meeting

In accordance with Section 10(a)(2) of the Federal Advisory Committee Act (Pub. L. 92-43), announcement is made of the following Committee Meeting:

Name of Committee: Army Science Board (ASB).

Date of Meeting: 7 March 2000 through 8 March 2000.

Time of Meeting: 0800-1700 (March 7), 0830-1630 (March 8).

Place: Presidential Towers—9th Floor Conference Room (9200).

Agenda: The Army Science Board's (ASB) Issue Group Study on “Countermine Warfare and Joint Opportunities for the Future” will meet for their initial “kick-off” meeting. This meeting will be open to the public. Any interested person may attend, appear before, or file statements with the committee at the time and in the manner permitted by the committee. For further information, please contact Debra Butler (Staff Assistant) at (703) 601-1581.

Wayne Joyner,
Program Support Specialist, Army Science Board.

[FR Doc. 00-3865 Filed 2-16-00; 8:45 am]

BILLING CODE 3710-08-M